DEPARTMENT OF JUSTICE

Antitrust Division

Notice Pursuant to the National Cooperative Research and Production Act of 1993—Electromagnetic Security Consortium, Inc.

Notice is hereby given that, on September 2, 2022, pursuant to section 6(a) of the National Cooperative Research and Production Act of 1993, 15 U.S.C. 4301 et seq., (the “Act”), the Electromagnetic Security Consortium, Inc. filed written notifications simultaneously with the Department of Justice and the Federal Trade Commission disclosing (1) the identities of the parties to Electromagnetic Security Consortium, Inc. and (2) the nature and objectives of Electromagnetic Security Consortium, Inc. The notifications were filed for the purpose of invoking the Act's provisions limiting the recovery of antitrust plaintiffs to actual damages under specified circumstances.

Pursuant to section 6(b) of the Act, the identities of the members of Electromagnetic Security Consortium, Inc. are the following companies: Acqusight, Amissville, VA; Coffee County Kansas, Burlington, KS; Conductive Group, Heber, UT; EXCEL SERVICES CORPORATION, Rockville, MD; Gtegrity, Inc., Millersville, MD; HLM Associates, Strasburg, VA; LBA Group Inc., Greenville, NC; Midgard Education Publishing, LLC, Pompano Beach, FL; MindShare Resource Solutions, Renton, WA; Montana State University, Bozeman, MT; Niles Expanded Metals & Plastics, Niles, OH; Palmer's Contracting Group, Warrenton, VA; Palmer's Security Solutions, Manassas, VA; RESA Power, Bedford, NH; RF Defense, Owings Mills, MD; SCIF Consultant, LLC, Quitman, TX; Signals Defense, Owings Mills, MD; Victory Systems, LLC, Zebulon, NC; and Willis Mechanical, Inc., Norcross, GA.

Electromagnetic Security Consortium, Inc. was formed as a Delaware non-stock member corporation. Electromagnetic Security Consortium, Inc.'s general area of planned activity is to develop, qualify, and deploy technologies that mitigate both environmental and man-made electromagnetic threats, and undertake such further activities as may from time to time be appropriate to further such purposes and achieve such goals.

Membership in Electromagnetic Security Consortium, Inc. remains open and Electromagnetic Security Consortium, Inc. intends to file additional written notifications disclosing all changes in membership.

Catherine Reilly,
Counsel for Civil Operations, Antitrust Division.

[FR Doc. 2022-24127 Filed 11-4-22; 8:45 am]

BILLING CODE 4410-11-P